GENERAL SERVICES ADMINISTRATION

Interagency Committee for Medical Records (ICMR); Revision of OF 275, Medical Record—Report

AGENCY: General Services Administration.

ACTION: Notice.

SUMMARY: The General Services Administration/ICMR revised the OF 275, Medical Record—Report to add sponsor information, update the patient identification information and make the form authorized for local reproduction. You can obtain the updated form in two ways:

On the Internet. Address: http://www.gsa.gov/forms/ or;

From GSA, Forms-CAP, Attn.: Barbara Williams, (202) 501-0581.

DATES: Effective September 10, 2002.

FOR FURTHER INFORMATION CONTACT: Ms. Barbara Williams, General Services Administration, (202) 501-0581.

Dated: August 28, 2002.
Barbara M. Williams,
Deputy Standard and Optional Forms Management Officer, General Services Administration.

[FR Doc. 02-22893 Filed 9-9-02; 8:45 am]

BILLING CODE 6820-34-M